NUCLEAR REGULATORY COMMISSION

[NRC-2010-0002]

Sunshine Federal Register Notice

Agency Holding the Meetings: Nuclear Regulatory Commission.

Date: Week of November 1, 2010.

Place: Commissioners' Conference Room, 11555 Rockville Pike, Rockville, Maryland.

Status: Public and Closed.

Additional Items to be Considered:

Week of November 1, 2010

Friday, November 5, 2010

9:25 a.m.

Affirmation Session (Public Meeting) (Tentative).

a. Entergy Nuclear Generation Co. and Entergy Nuclear Operations, Inc. (Pilgrim Nuclear Power Station) Pilgrim Watch Motion Seeking Commission to Order Board to Respond or to Respond Itself to Pilgrim Watch Questions (Tentative).

This meeting will be Webcast live at the Web address— http://www.nrc.gov.

* * * * *

* The schedule for Commission meetings is subject to change on short notice. To verify the status of meetings, call (recording)—(301) 415-1292. Contact person for more information: Rochelle Bavol, (301) 415-1651.

* * * * *

Additional Information

By a vote of 3-1 on November 2, 2010, the Commission determined pursuant to U.S.C. 552b(e) and '9.107(a) of the Commission's rules that the above referenced Affirmation be held on November 5, 2010, with less than one week notice to the public.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: November 3, 2010.
Richard J. Laufer,
Technical Coordinator, Office of the Secretary.

[FR Doc. 2010-28252 Filed 11-4-10; 4:15 pm]

BILLING CODE 7590-01-P